DEPARTMENT OF THE INTERIOR

National Park Service

[NPS-WASO-NAGPRA-NPS0040445; PPWOCRADN0-PCU00RP14.R50000]

Notice of Inventory Completion: The Wistar Institute, Philadelphia, PA, and the University of Pennsylvania Museum of Archaeology and Anthropology, Philadelphia, PA

AGENCY: National Park Service, Interior.

ACTION: Notice.

SUMMARY: In accordance with the Native American Graves Protection and Repatriation Act (NAGPRA), The Wistar Institute, through its agent the University of Pennsylvania Museum of Archaeology and Anthropology (Penn Museum) has completed an inventory of human remains and has determined that there is a cultural affiliation between the human remains and Indian Tribes or Native Hawaiian organizations in this notice.

DATES: Repatriation of the human remains in this notice may occur on or after July 28, 2025.

ADDRESSES: Send written requests for repatriation of the human remains in this notice to Dr. Christopher Woods, Williams Director, University of Pennsylvania Museum of Archaeology and Anthropology, 3260 South Street, Philadelphia, PA 19104-6324, email director@pennmuseum.org.

SUPPLEMENTARY INFORMATION: This notice is published as part of the National Park Service's administrative responsibilities under NAGPRA. The determinations in this notice are the sole responsibility of the Wistar Institute through its agent, the Penn Museum, and additional information on the determinations in this notice, including the results of consultation, can be found in its inventory or related records. The National Park Service is not responsible for the determinations in this notice.

Abstract of Information Available

Human remains representing at least 34 individuals have been identified. No associated funerary objects are present. Sometime between 1897 and 1898, the human remains of 34 individuals were collected from a historic cemetery at Point Barrow, Alaska by Edward Avery McIlhenny, who was in Barrow at this time assembling archaeological and ethnographical collections on behalf of the Penn Museum and the Academy of Natural Sciences of Philadelphia. In 1898, McIlhenny shipped his collection, including the human remains, by freight from Seattle to the University of Pennsylvania, Department of Archaeology and Paleontology. The human remains were immediately transferred to the Wistar Institute of Anatomy and Biology by an agreement between both institutions and were accessioned into the Wistar Institute's collections in 1899. In 1956, 33 of the 34 ancestral human remains were transferred to the Penn Museum on long-term loan.

One of the 34 individuals was transferred to Thomas N. Haviland of the University of Pennsylvania School of Veterinary Medicine, likely before 1956. By 1970, the human remains were transferred to Temple University by Haviland's estate. The remains were returned to the Wistar Institute in 2012 and subsequently loaned to the Penn Museum that same year.

The 34 human remains, mainly represented by crania and mandibles, range in age from adolescence to later adulthood. Both males and females are represented, with some sexes being indeterminate or ambiguous. There is one named individual who was identified as Nonoycha, the head man or “Qmilik,” meaning chief. There is no known presence of any potentially hazardous substances.

Cultural Affiliation

Based on the information available and the results of consultation, cultural affiliation is clearly identified by the information available about the human remains described in this notice.

Determinations

The officials of the Wistar Institute, through its agent the Penn Museum, has determined that:

• The human remains described in this notice represent the physical remains of 34 individuals of Native American ancestry.

• There is a connection between the human remains described in this notice and the Native Village of Barrow Inupiat Traditional Government.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 28, 2025. If competing requests for repatriation are received, the Wistar Institute, through its agent, the Penn Museum, must determine the most appropriate requestor prior to repatriation. Requests for joint repatriation of the human remains are considered a single request and not competing requests. The Wistar Institute, through its agent, the Penn Museum, is responsible for sending a copy of this notice to the Indian Tribes and Native Hawaiian organizations identified in this notice.

Authority: Native American Graves Protection and Repatriation Act, 25 U.S.C. 3003, and the implementing regulations, 43 CFR 10.10.

Dated: June 17, 2025.
Melanie O'Brien,
Manager, National NAGPRA Program.

[FR Doc. 2025-11944 Filed 6-26-25; 8:45 am]

BILLING CODE 4312-52-P